SECURITIES AND EXCHANGE COMMISSION

[File No. 500-1]

AB Liquidating Corp. (f/k/a Adaptive Broadband Corp.), Globalnet Corp., Greenland Corp., KeraVision, Inc., Lifespan, Inc., STAR Telecommunications, Inc., Telenetics Corp., and 3DFX Interactive, Inc.; Order of Suspension of Trading

April 5, 2010.

It appears to the Securities and Exchange Commission that there is a lack of current and accurate information concerning the securities of AB Liquidating Corp. (f/k/a Adaptive Broadband Corp.) because it has not filed any periodic reports since the period ended December 31, 2000.

It appears to the Securities and Exchange Commission that there is a lack of current and accurate information concerning the securities of Globalnet Corp. because it has not filed any periodic reports since the period ended December 31, 2004.

It appears to the Securities and Exchange Commission that there is a lack of current and accurate information concerning the securities of Greenland Corp. because it has not filed any periodic reports since the period ended September 30, 2005.

It appears to the Securities and Exchange Commission that there is a lack of current and accurate information concerning the securities of KeraVision, Inc. because it has not filed any periodic reports since the period ended September 30, 2000.

It appears to the Securities and Exchange Commission that there is a lack of current and accurate information concerning the securities of Lifespan, Inc. because it has not filed any periodic reports since the period ended September 30, 2007.

It appears to the Securities and Exchange Commission that there is a lack of current and accurate information concerning the securities of STAR Telecommunications, Inc. because it has not filed any periodic reports since the period ended September 30, 2000.

It appears to the Securities and Exchange Commission that there is a lack of current and accurate information concerning the securities of Telenetics Corp. because it has not filed any periodic reports since the period ended September 30, 2004.

It appears to the Securities and Exchange Commission that there is a lack of current and accurate information concerning the securities of 3DFX Interactive, Inc. because it has not filed any periodic reports since the period ended July 31, 2002.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on April 5, 2010, through 11:59 p.m. EDT on April 16, 2010.

By the Commission.
Florence E. Harmon,
Deputy Secretary.

[FR Doc. 2010-7958 Filed 4-5-10; 4:15 pm]

BILLING CODE 8011-01-P